DEPARTMENT OF JUSTICE

Drug Enforcement Administration

Importation of Controlled Substances; Notice of Withdrawal

As set fourth in the Federal Register (FR Doc. 99-26605) Vol. 64, No. 197 at page 55489, dated October 13, 1999, Fort Dodge Laboratories, Inc., 141 E. Riverside Drive, Fort Dodge, Iowa 50501, made application to the Drug Enforcement Administration to be registered as an importer of pentobarbital (2270).

One registered bulk manufacturer of pentobarbital requested a hearing to deny the proposed registration of Fort Dodge Laboratories, Inc. Fort Dodge Laboratories, Inc. requested by letter that its application be withdrawn. Therefore, Fort Dodge Laboratories, Inc.'s, application to import pentobarbital is hereby withdrawn.

Dated: October 30, 2000.
John H. King,
Deputy Assistant Administrator, Office of Diversion Control, Drug Enforcement Administration.

[FR Doc. 00-28696 Filed 11-8-00; 8:45 am]

BILLING CODE 4410-09-M